COMMITTEE FOR PURCHASE FROM PEOPLE WHO ARE BLIND OR SEVERELY DISABLED

Quarterly Public Meeting

AGENCY: Committee for Purchase From People Who Are Blind or Severely Disabled.

ACTION: Notice of public meeting.

DATES: July 13, 2023, from 1:00 p.m. to 4:00 p.m., ET.

Place: The meeting will be held virtually only via Zoom webinar.

FOR FURTHER INFORMATION CONTACT: Angela Phifer, 355 E Street SW, Suite 325, Washington, DC 20024; (703) 798-5873, or CMTEFedReg@AbilityOne.gov.

SUPPLEMENTARY INFORMATION:

Background: The Committee for Purchase From People Who Are Blind or Severely Disabled is an independent government agency operating as the U.S. AbilityOne Commission. It oversees the AbilityOne Program, which provides employment opportunities through Federal contracts for people who are blind or have significant disabilities in the manufacture and delivery of products and services to the Federal Government. The Javits-Wagner-O'Day Act (41 U.S.C. chapter 85) authorizes the contracts.

Registration: Attendees not requesting speaking time should register not later than 11:59 p.m. ET on July 12, 2023. Attendees requesting speaking time must register not later than 11:59 p.m. ET on July 7, 2023, and use the comment fields in the registration form to specify the intended speaking topic/s. The registration link is accessed from the Commission's home page, www.abilityone.gov.

Commission Statement: This regular quarterly meeting will include updates from the Commission Chairperson, Executive Director, and Inspector General. The meeting will provide significant time for public participation.

Public Participation: The Commission will hold a public engagement session on the Notice of Proposed Rulemaking (NPRM) Supporting Competition in the AbilityOne Program (RIN 3037-AA14), published on March 13, 2023. The Commission particularly invites discussion on how the Commission can consider a nonprofit agency's positive performance in improving employment opportunities for people who are blind or have significant disabilities, both within the AbilityOne workplace and placements outside the AbilityOne Program, in initial Procurement List additions and in any competitive process covered by the NPRM. The Commission will invite some attendees to present their views during the meeting. The Commission will also recognize individuals who request to speak, to the maximum extent time permits. Speakers are requested to keep their presentations to three (3) minutes to allow the maximum number of participants during the meeting.

Personal Information: Speakers should not include any information that they do not want publicly disclosed.

Michael R. Jurkowski,
Acting Director, Business Operations.

[FR Doc. 2023-12973 Filed 6-15-23; 8:45 am]

BILLING CODE 6353-01-P